DEPARTMENT OF TRANSPORTATION

National Highway Traffic Safety Administration

Petition for Exemption From the Federal Motor Vehicle Theft Prevention Standard; American Honda Motor Co., Inc.

AGENCY: National Highway Traffic Safety Administration (NHTSA), Department of Transportation (DOT).

ACTION: Grant of petition for exemption.

SUMMARY: This document grants in full the American Honda Motor Co., Inc.'s (Honda) petition for exemption of the 2020 Acura TLX vehicle line in accordance with Exemption from Vehicle Theft Prevention Standard. This petition is granted because the agency has determined that the antitheft device to be placed on the line as standard equipment is likely to be as effective in reducing and deterring motor vehicle theft as compliance with the parts-marking requirements of the Federal Motor Vehicle Theft Prevention Standard (Theft Prevention Standard).

DATES: The exemption granted by this notice is effective beginning with the 2020 model year (MY).

FOR FURTHER INFORMATION CONTACT: Ms. Carlita Ballard, Office of International Policy, Fuel Economy and Consumer Programs, NHTSA, West Building, W43-439, NRM-310, 1200 New Jersey Avenue SE, Washington, DC 20590. Ms. Ballard's phone number is (202) 366-5222. Her fax number is (202) 493-2990.

SUPPLEMENTARY INFORMATION: In a petition dated July 30, 2018, Honda requested an exemption from the parts-marking requirements of the Theft Prevention Standard for the Acura TLX vehicle line beginning with MY 2020. The petition requested an exemption from parts-marking pursuant to 49 CFR part 543, Exemption from Vehicle Theft Prevention Standard, based on the installation of an antitheft device as standard equipment for the entire vehicle line.

Under 49 CFR part 543.5(a), a manufacturer may petition NHTSA to grant an exemption for one vehicle line per model year. In its petition, Honda provided a detailed description and diagram of the identity, design, and location of the components of the antitheft device for the Acura TLX vehicle line. Honda stated that its vehicle line will offer a front-wheel drive and an all-wheel drive variation. Honda further stated that its MY 2020 Acura TLX vehicle line will be installed with a transponder-based, engine immobilizer antitheft device as standard equipment. More specifically, Honda stated that the TLX vehicle line will be equipped with a “smart entry push button start” ignition system (“smart entry”) and a vehicle security alarm system as standard equipment on the entire vehicle line. Key components of the antitheft device will include a passive immobilizer, “smart entry” remote, powertrain control module (PCM) and an Immobilizer Entry System (IMOES).

Honda's submission is considered a complete petition as required by 49 CFR 543.7, in that it meets the general requirements contained in § 543.5 and the specific content requirements of § 543.6.

In addressing the specific content requirements of § 543.6, Honda provided information on the reliability and durability of its proposed device. To ensure reliability and durability of the device, Honda conducted tests based on its own specified standards. Honda provided a detailed list of the tests it used to validate the integrity, durability, and reliability of its device and believes that it follows a rigorous development process to ensure that its antitheft device will be reliable and robust for the life of the vehicle. Honda stated that its device does not require the presence of a “smart entry” remote battery to function nor does it have any moving parts (i.e., the PCM, IMOES, ignition key, “smart entry” remote and the corresponding electrical components found within its own housing units), which it believes reduces the chance for deterioration and wear from normal use. Honda also stated that additional levels of reliability, durability, and security will be accomplished because it will incorporate counterfeit resistant vehicle identification number (VIN) plates, secondary VINs, a hood release located inside the vehicle, and its smart entry remote will utilize rolling codes for the lock and unlock functions of its vehicles.

Honda further stated that its immobilizer device is always active without requiring any action from the vehicle operator as long as the matching smart entry remote is outside of the operating range and the engine is turned off. Deactivation occurs when a valid “smart entry” remote with matching codes is placed within operating range and the engine start/stop button is pushed to start the vehicle. Honda further states that if a “smart entry” remote without a matching code is placed inside the operating range and the engine start/stop button is pushed, the PCM will prevent fueling and starting of the engine. Additionally, an ignition immobilizer telltale indicator will begin flashing on the meter panel providing the status of the immobilizer device.

Honda stated that the audible and visible vehicle security alarm system installed on its TLX vehicles will monitor any attempts of unauthorized entry and attract attention to an unauthorized person attempting to enter its vehicles without the use of a “smart entry” remote or its built-in mechanical door key. Specifically, Honda stated that whenever an attempt is made to open one of its vehicle doors, hood or trunk without using the “smart entry” remote or turning a key in the key cylinder to disarm the vehicle, the vehicle's horn will sound, and its lights will flash. Honda stated that its vehicle security system is activated when all of the doors are locked and the hood and trunk are closed and locked. Honda further stated that its vehicle security system is deactivated by using the key fob buttons to unlock the vehicle doors or having the “smart entry” remote within operating range when the operator grabs either of the vehicle's front door handles.

In support of its belief that its antitheft device will be as or more effective in reducing and deterring vehicle theft than the parts-marking requirement, Honda referenced data showing several instances of the effectiveness of its proposed immobilizer device. Honda first installed an immobilizer device as standard equipment on its MY 2015 Acura TLX vehicles, which is also the year the TLX was first introduced. There is no current theft rate data available for the Acura TLX vehicle line. Additionally, Honda referenced the Highway Loss Data Institute's 2015-2017's Insurance Theft Report showing the application of years of the immobilizer that is currently available. Honda believes that installation of the antitheft immobilizer device as standard equipment reduces the vehicle theft rate by making conventional methods of theft obsolete, i.e., punching out the steering column or hot-wiring the ignition.

Additionally, Honda stated that the immobilizer device proposed for the 2018 TLX is similar to the design offered on its Honda Civic, Honda Accord, Honda CR-V, Honda Pilot, and Acura MDX vehicles. The agency granted the petition for the Honda Civic vehicle line in full beginning with MY 2014 (see 61 FR 19363, March 29, 2013), the Honda Accord vehicle line beginning with MY 2015 (see 79 FR 18409, April 1, 2014), the Honda CR-V vehicle line beginning with MY 2016 (see 80 FR 3733, January 23, 2015), the Honda Pilot beginning with MY 2017 (see 81 FR 12197, March 8, 2016), and the Acura MDX beginning with MY 2018 (see 82 FR 22055, May 11, 2017). The agency notes that the average theft rate for the Honda Civic, Accord, CR-V, Pilot, and Acura MDX vehicle lines using three MYs' data (MYs 2012 through 2014) are 0.6611, 0.7139, 0.3203, 0.9134, and 0.4630 respectively.

Based on the supporting evidence submitted by Honda on its device, the agency believes that the antitheft device for the Acura TLX vehicle line is likely to be as effective in reducing and deterring motor vehicle theft as compliance with the parts-marking requirements of the Theft Prevention Standard (49 CFR 541). The agency concludes that the device will provide the five types of performance listed in § 543.6(a)(3): Promoting activation; attract attention to the efforts of an unauthorized person to enter or move a vehicle by means other than a key; preventing defeat or circumvention of the device by unauthorized persons; preventing operation of the vehicle by unauthorized entrants; and ensuring the reliability and durability of the device.

Pursuant to 49 U.S.C. 33106 and 49 CFR 543.7 (b), the agency grants a petition for exemption from the parts-marking requirements of Part 541 either in whole or in part, if it determines that, based upon substantial evidence, the standard equipment antitheft device is likely to be as effective in reducing and deterring motor vehicle theft as compliance with the parts-marking requirements of Part 541. The agency finds that Honda has provided adequate reasons for its belief that the antitheft device for the Acura TLX vehicle line is likely to be as effective in reducing and deterring motor vehicle theft as compliance with the parts-marking requirements of the Theft Prevention Standard. This conclusion is based on the information Honda provided about its device.

The agency notes that 49 CFR part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Honda decides not to use the exemption for this line, it must formally notify the agency. If such a decision is made, the line must be fully marked according to the requirements under 49 CFR parts 541.5 and 541.6 (marking of major component parts and replacement parts).

NHTSA notes that if Honda wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

For the foregoing reasons, the agency hereby grants in full Honda's petition for exemption for the Acura TLX vehicle line from the parts-marking requirements of 49 CFR part 541, beginning with the 2020 model year vehicles.

Issued in Washington, DC, under authority delegated in 49 CFR 1.95 and 501.8.
Raymond R. Posten,
Associate Administrator for Rulemaking.

[FR Doc. 2019-02753 Filed 2-19-19; 8:45 am]

BILLING CODE 4910-59-P